DEPARTMENT OF TRANSPORTATION

Office of the Secretary

49 CFR Part 1

[Docket No. OST-2000-7581]

Organization and Delegation of Powers and Duties; Delegation to the Administrators of the National Highway Traffic Safety Administration and the Federal Motor Carrier Safety Administration

AGENCY: Office of the Secretary, DOT.

ACTION: Final rule.

SUMMARY: Section 101(f) of the Motor Carrier Safety Improvement Act of 1999 provides that the authority under title 49, United States Code, to promulgate safety standards for commercial motor vehicles and equipment subsequent to initial manufacture is vested in the Secretary and may be delegated. Accordingly, by this action, the Secretary delegates to the Administrator of the National Highway Traffic Safety Administration the authority to promulgate safety standards for commercial motor vehicles and equipment subsequent to initial manufacture when the standards are based upon and similar to a Federal Motor Vehicle Safety Standard (FMVSS) promulgated under chapter 301 of title 49, U.S.C. The Administrator may promulgate a standard simultaneously with the FMVSS on which it is based. The authority to promulgate safety standards for commercial motor vehicles and equipment subsequent to initial manufacture is delegated to the Administrator of the Federal Motor Carrier Safety Administration when the standards are not based upon and similar to an FMVSS promulgated under chapter 301 of title 49, U.S.C.

EFFECTIVE DATE: July 3, 2000.

FOR FURTHER INFORMATION CONTACT: Mr. John Womack, Office of the Chief Counsel, HCC-01, (202) 366-9511, National Highway Traffic Safety Administration, or Ms. Judith A. Rutledge, Office of the Chief Counsel, (MC-CC), (202) 366-2519, Federal Motor Carrier Safety Administration, U.S. Department of Transportation, 400 Seventh Street, SW., Washington, DC 20590.

SUPPLEMENTARY INFORMATION:

Electronic Access

An electronic copy of this document may be downloaded by using a computer, modem and suitable communications software from the Government's Printing Office Electronic Bulletin Board Service at (202) 512-1661. Internet users may reach the Office of the Federal Register's home page at: http://www.nara.gov/fedreg and the Government Printing Office's database at: http://www.access.gpo.gov/nara.

Background

Effective October 9, 1999, the Secretary of Transportation rescinded the authority of the Federal Highway Administrator to perform motor carrier safety functions and operations and redelegated it to the Director of a newly established Office of Motor Carrier Safety in the Department of Transportation. (64 FR 56270, October 19, 1999; 64 FR 58356, October 29, 1999.) This action was consistent with section 338 of the Fiscal Year 2000 Department of Transportation and Related Agencies Appropriations Act (Pub. L. 106-69), as amended by Pub. L. 106-73, which prohibits the Federal Highway Administration from spending funds made available or limited in that Act to carry out such functions. On December 9, 1999, the Motor Carrier Safety Improvement Act of 1999 (MCSI Act) (Public Law No. 106-159, 113 Stat. 1748) was enacted for the purpose of establishing the Federal Motor Carrier Safety Administration effective January 1, 2000. As we noted in a prior delegation to the FMCSA, 49 U.S.C. 113(f), as enacted by section 101(a) of the MCSI Act, states that the Federal Motor Carrier Safety Administrator shall carry out a number of duties and powers related to motor carrier and motor carrier safety and gives the Secretary discretion to delegate the authority to promulgate safety standards for commercial motor vehicles and equipment subsequent to initial manufacture. As a result, Part 1 of title 49, CFR, was amended to reflect this new provision by substituting the words “Administrator of the Federal Motor Carrier Safety Administration” for the words “Director of the Office of Motor Carrier Safety.” (65 FR 220, January 4, 2000.) It was also amended to reflect the Federal Motor Carrier Safety Administration as an organization within the Department of Transportation and to describe its general responsibilities. Id. In addition, section 1.73 of this Part was amended in accordance with section 101(f) of the MCSI Act to reflect the Secretary's reservation to himself of the authority to promulgate safety standards for commercial motor vehicles and equipment subsequent to initial manufacture. Id. These amendments were effective January 1, 2000.

This rule amends 49 CFR Part 1 to reflect the Secretary's decision to now delegate to the National Highway Traffic Safety Administrator the authority to promulgate safety standards for commercial motor vehicles and equipment already in use when the standards are based upon and similar to an FMVSS promulgated under chapter 301 of title 49, U.S.C. In issuing standards under this delegation, the Administrator will coordinate with the Federal Motor Carrier Safety Administrator. This rule also amends Part 1 to delegate to the Federal Motor Carrier Safety Administrator the authority to promulgate safety standards for commercial motor vehicles and equipment already in use when the standards are not based upon and similar to an FMVSS promulgated under chapter 301 of title 49, U.S.C. Nothing in this rule changes the existing authority of the Federal Motor Carrier Safety Administration to promulgate standards relating to motor carrier operations and maintenance of commercial motor vehicles, to inspect vehicles and equipment for compliance with applicable safety standards and maintenance requirements, and to take enforcement action as necessary.

The Administrators of the National Highway Traffic Safety Administration and the Federal Motor Carrier Safety Administration have the authority to redelegate the functions described in this document if not inconsistent with statute, departmental regulations, policies, and orders governing delegation of functions.

As the rule relates to Departmental organization, procedure, and practice, notice and comment on it are unnecessary under 5 U.S.C. 553(b). This action makes no substantive changes to the motor carrier safety regulations. Therefore, prior notice and opportunity to comment are unnecessary, and good cause exists under 5 U.S.C. 553(d)(3) to dispense with the 30-day delay in the effective date requirement so that the National Highway Traffic Safety Administration and the Federal Motor Carrier Safety Administration may immediately operate pursuant to the changes noted below.

List of Subjects in 49 CFR Part 1

Authority delegations (Government agencies), Organization and functions (Government agencies).

Issued this 22nd day of June, 2000 at Washington, DC.
Rodney E. Slater,
Secretary of Transportation.

For the reasons set forth in the preamble, the Department of Transportation amends 49 CFR Part 1 as follows:

PART 1—ORGANIZATION AND DELEGATION OF POWERS AND DUTIES

1. The authority citation for part 1 continues to read as follows:

Authority: 49 U.S.C. 2104(a); Pub. L. 101-552; 28 U.S.C. 2672, 31 U.S.C. 3711 (a)(2), 46 U.S.C. 2104(a).

2. In § 1.50 add paragraph (n) to read as follows:

§ 1.50 Delegation to the National Highway Traffic Safety Administrator.

* * * * *

(n) Carry out, in coordination with the Federal Motor Carrier Safety Administrator, the authority vested in the Secretary by subchapter III of chapter 311 and section 31502 of title 49, U.S.C., to promulgate safety standards for commercial motor vehicles and equipment subsequent to initial manufacture when the standards are based upon and similar to a Federal Motor Vehicle Safety Standard promulgated, either simultaneously or previously, under chapter 301 of title 49, U.S.C.

§ 1.73 [Amended]

3. Amend § 1.73 as follows:

a. Amend paragraph (g) by removing the word “for” the first time it is used and adding the word “that” in its place, and by adding before the period “is limited to standards that are not based upon and similar to a Federal Motor Vehicle Safety Standard promulgated under chapter 301 of title 49, U.S.C.”

b. Amend paragraph (l) by removing the word “for” the first time it is used and adding the word “that” in its place, and by adding before the period “is limited to standards that are not based upon and similar to a Federal Motor Vehicle Safety Standard promulgated under chapter 301 of title 49, U.S.C.”

[FR Doc. 00-16623 Filed 6-30-00; 8:45 am]

BILLING CODE 4910-62-P